DEPARTMENT OF ENERGY

Federal Energy Regulatory Commission

[Docket Nos. RP10-134-000; RP09-423-000; RP09-423-002]

Columbia Gulf Transmission Company; Notice of Technical Conference

January 6, 2010.

Take notice that Commission Staff will convene a technical conference in the above-referenced proceedings on Tuesday, January 19, 2010 at 10 a.m. (EST), in a room to be designated at the offices of the Federal Energy Regulatory Commission, 888 First Street, NE., Washington, DC 20426.

The purpose of the technical conference is to consider the issues raised by Columbia Gulf Transmission Company's (Columbia Gulf) Incentive Fixed Fuel filing in Docket No. RP10-134-000 and what changes, if any, might be necessary or appropriate. Because Columbia Gulf's Incentive Fixed Fuel filing presents interrelated issues with the Transportation Retainage Adjustment filing in Docket Nos. RP09-423-000 and RP09-423-002, the technical conference will also consider the issues raised in those dockets that relate to the Incentive Fixed Fuel proposal.

Commission Staff and interested persons will have the opportunity to discuss all of the issues raised by Columbia Gulf's filings. Specifically, Columbia Gulf should be prepared to address all the concerns raised in the protests, and if necessary, to provide additional technical, engineering and operational support for its proposals. Any party proposing alternatives to Columbia Gulf's proposals should also be prepared to similarly support its position.

FERC conferences are accessible under section 508 of the Rehabilitation Act of 1973. For accessibility accommodations please send an e-mail to accessibility@ferc.gov or call toll free (866) 208-3372 (voice) or (202) 502-8659 (TTY), or send a fax to (202) 208-2106 with the required accommodations.

All interested persons are permitted to attend. For further information please contact Anna Fernandez at (202) 502-6682 or e-mail Anna Fernandez@ferc.gov.

Kimberly D. Bose,
Secretary.

[FR Doc. 2010-516 Filed 1-13-10; 8:45 am]

BILLING CODE 6717-01-P